DEPARTMENT OF THE INTERIOR

Fish and Wildlife Service

[FWS-R2-R-2012-N130; FXRS12610200000S3-123-FF02R06000]

Wichita Mountains Wildlife Refuge, Comanche County, OK; Comprehensive Conservation Plan and Environmental Assessment

AGENCY: Fish and Wildlife Service, Interior.

ACTION: Notice of availability; request for comments.

SUMMARY: We, the U.S. Fish and Wildlife Service (Service), announce the availability of a draft comprehensive conservation plan (CCP) and an environmental assessment (EA) for Wichita Mountains Wildlife Refuge (Refuge, WMWR), located approximately 25 miles northwest of Lawton, Oklahoma, for public review and comment. The Draft CCP/EA describes our proposal for managing the Refuge for the next 15 years.

DATES: To ensure consideration, please send your written comments by September 10, 2012. We will announce upcoming public meetings in local news media.

ADDRESSES: You may submit comments or requests for copies or more information on the Draft CCP/EA by any one of the methods listed below. You may request hard copies or a CD-ROM of the documents. Please contact Tony Booth, Refuge Manager, or Roxanne Turley, Natural Resource Planner.

Email: Roxanne_Turley@fws.gov. Include “Wichita Mountains Wildlife Refuge draft CCP and EA” in the subject line of the message.

Fax: Attn: Roxanne Turley, 505-248-6803.

U.S. Mail: Roxanne Turley, Natural Resource Planner, U.S. Fish and Wildlife Service, NWRS Division of Planning, P.O. Box 1306, Albuquerque, NM 87103.

In-Person Drop-off: You may drop off comments during regular business hours (8 a.m. to 4:30 p.m.) at 500 Gold Street SW., 4th Floor, Room 4342, Albuquerque, NM 87102.

FOR FURTHER INFORMATION CONTACT: Tony Booth, Refuge Manager, Wichita Mountains Wildlife Refuge, CCP Project, 32 Refuge Headquarters, Indiahoma, OK 73552; phone: (580) 429-3222; fax: (580) 429-9323.

SUPPLEMENTARY INFORMATION:

Introduction

With this notice, we continue the CCP process for the Wichita Mountains Wildlife Refuge. We started this process through a notice in the Federal Register (73 FR 65872; November 5, 2008).

The Refuge encompasses 59,020 acres of mixed-grass prairie and crosstimbers habitats, with granite rock outcroppings. The Refuge, which is a remnant of what was once a much larger natural area, consists of lakes, streams, canyons, mountains, woodlands, and grasslands, creating an oasis for both wildlife and people in southwestern Oklahoma.

The land was originally established as a Forest Reserve by President William McKinley in 1901. By proclamation of President Theodore Roosevelt, dated June 2, 1905, and based on a special act of Congress approved January 24, 1905, the land was further designated as a National Game Preserve “for the protection of game animals and birds and shall be recognized as a breeding place thereof.” The land was administered by the U.S. Forest Service until 1936, when it was transferred to the Bureau of Biological Survey, one of the predecessor agencies of the present day U.S. Fish and Wildlife Service. Shortly thereafter, the area was renamed the Wichita Mountains Wildlife Refuge for administration under the National Wildlife Refuge System.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and, as necessary, update the CCP at least every 15 years in accordance with the Refuge Administration Act.

Public Outreach

Formal scoping began with publication of a notice of intent to prepare a comprehensive conservation plan and environmental assessment (EA) in the Federal Register on November 5, 2008 (73 FR 65872). The Refuge solicited comments on issues and concerns to aid in CCP development through four open house meetings held in January and February 2009.

An ecoregion-wide coordination meeting was held at the Refuge Environmental Education Center on December 2, 2009, to gain a better understanding of the issues within the Central Mixed-Grass Prairie ecoregion, where the Refuge is located, and to determine the Refuge's role in addressing issues impacting fish, wildlife, and their habitats within the larger landscape.

In February 2010, Refuge staff met with the Oklahoma Department of Wildlife Conservation to identify their concerns to address in the CCP. Also at that time a letter was sent to local tribes to inform them of the planning process and provide information on how to be involved. One tribal meeting was scheduled as a result.

In addition to the scoping meetings, the Refuge held an open house at the Refuge Visitor Center on January 25, 2011. The purpose of this open house was to introduce the new Refuge Manager and to give the public an opportunity to discuss various Refuge projects and programs, including the planning process.

The feedback received at the conclusion of the public involvement period identified numerous concerns from a variety of stakeholders. These concerns were organized by five broad issue categories and one administrative category: Ecoregion, Habitat, Wildlife, Public Use, Facilities, and Administrative Areas.

CCP Alternatives We Are Considering

During the public scoping process multiple issues were raised by us, other governmental partners, Tribes, and the public. Our draft CCP addresses them. A full description of each alternative is in the EA. To address these issues, we developed and evaluated the following alternatives, summarized below.

Issue topic | Alternative A—no action | Alternative B—proposed action | Alternative C
Issue 1: Ecoregion | Improve efficiency of Refuge fleet and facilities Minimize or mitigate emissions, smoke, and dust and maintain Class 1 Airshed Maintain current Refuge boundary. Monitor and provide public outreach on water quality and mercury contamination Protect riparian areas through the construction and/or maintenance of low water crossings or bridges | Same as Alternative A, plus: Identify alternative energy and water sources. Increase dust abatement efforts. Explore Refuge expansion opportunities (such as through land acquisition, conservation easements, or cooperative agreements). Expand monitoring of mercury. Pursue park-and-ride commuting or tours and other means to reduce traffic. | Same as Alternative B.
Issue 2: Habitat Management | Maintain Special Use Area (SUA) and continue prohibition on unrestricted public access and use Manage lakes at full capacity. Conduct occasional draw-downs to control invasive species, manage fisheries, and improve fishing opportunities Permit grazing on five small allotments on Refuge property located outside of the Refuge boundary fence | Same as Alternative A, plus: Designate and manage the SUA as a Research Natural Area (RNA). Continue public use and access as in Alternative A with the incorporation of adaptive management if/when resources are at risk. Construct a fish passage on West Cache Creek to improve fish crossings. Phase out and discontinue grazing permits when fences are moved to the true Refuge boundaries. | Same as Alternative B, with the exception of the SUA, which would be managed as in Alternative A, but with allowance of more general, although controlled, public access and use.
Issue 3: Wildlife Management | Manage native fauna (elk, deer, and bison) at or near carrying capacity. Hold public auctions (bison) and hunts (elk and deer) to manage population levels. Manage black-capped vireo according to recovery plan Manage non-native fauna (longhorn) at carrying capacity. Hold public auctions to manage longhorn population levels. Monitor for zebra mussels in Refuge lakes. Manage feral hogs according to the Integrated Pest Management (IPM) Plan. | Manage populations at levels targeted to allow for habitat variability. Evaluate increasing the bison herd. Evaluate decreasing longhorn herd size, or move the herd to alternate location. Hold public auctions (bison and longhorn) and hunts (elk and deer) to manage population levels. Monitor long-term trends in vegetation and animal health and adaptively manage all native wildlife. Promote expansion of black-capped vireo habitat on adjacent lands. Consider more aggressive and proactive measures to avoid zebra mussel introduction. Manage feral hogs according to the IPM Plan. | Manage native fauna the same as Alternative B, plus evaluate the feasibility of pronghorn antelope and wolf reintroductions. Manage non-native fauna the same as Alternative A, except increase the longhorn herd size.
Issue 4: Public Use | Administer hunts to achieve population management objectives for white-tailed deer and elk Allow fishing at 12 lakes in the Public Use Area. Stock resident fish species periodically Provide wildlife viewing and photography opportunities Provide interpretive talks, nature walks, and exhibits. Offer interpretive tours in the SUA through the Friends of the Wichitas. Conduct only a small amount of interpretation in the Wilderness Area Hold Environmental Education (EE) classes on- and off-Refuge. Partner with Friends group to provide transportation assistance for students. Conduct only a small amount of EE in the Wilderness Area Allow bicycling on paved roads and on the Mt. Scott access road. Pave highway shoulders along the section of State Highways 115 and 49 that extend from the Medicine Park gate west and south to the Cache gate Allow boating on five lakes. Provide paved and unhardened boat ramps, interpretive signs, and other facilities Provide and maintain developed camping opportunities at Doris and Fawn Creek Campgrounds. Allow designated area backcountry camping through a permit Allow hiking throughout the Public Use and Wilderness Areas. Maintain nine trails totaling about 17 miles in the Public Use Area and in the Wilderness Area on two designated trails totaling about three miles Provide and maintain four picnicking areas Allow rock climbing, rappelling, and bouldering throughout the Public Use Area. Maintain partnership and collaborative fixed anchor evaluation process with Wichita Mountains Climbing Coalition (WMCC). Implement all anchor replacements or modifications by hand in the Wilderness Area Allow special uses including monitoring and research; economic or commercial special uses including rocksports instruction, auctions, and guided interpretive tours; non-commercial special uses including cultural (e.g. tribal) and religious events (e.g. Holy City) and public events Protect sensitive areas or wildlife through temporary access restrictions if necessary Allow use without group size restrictions. | Same as Alternative A, plus: Improve fishing opportunities through signage, facilities, and hardened boat ramps. Add youth fishing day clinic. Add fishing piers at Quanah Parker, Jed Johnson, and Crater Lakes. Improve wildlife observation opportunities by upgrading existing facilities and constructing two new viewing blinds. Develop and designate a wildlife observation loop using existing roads and trails. Offer evening and weekend photography workshops. Update exhibits at the Visitor Center. Construct an interpretive nature trail loop around the Visitor Center. Expand public interpretive workshops. Maintain interpretive tours provided by the Friends of the Wichitas but move them from the Special Use Area to the Public Use Area if necessary to protect wildlife and habitat. Work to develop EE Center as a training facility. Link EE programs to the Oklahoma State Curriculum. Increase emphasis on EE from 6 to 10 percent of annual school contacts. Create/designate hiking and bike routes and connect existing routes. Increase quality (linking) of routes to/from Lake Elmer Thomas Recreation Area (LETRA), Cache, Medicine Park, Meers, and Lawton via partnerships. Consider a bicycle-share pilot program. Improve boating opportunities through increased interpretive signage or educational kiosks, increased visitor contacts, and increased law enforcement contacts. Increase camping and picnicking opportunities by working with partners to meet the demand in areas adjacent to the Refuge, including pedestrian and bicycle connections. Increase utilization of less visited picnic areas in the medium density use area. Increase and improve accessible hiking opportunities. Permit replacement of fixed anchors for rocksports but limit placement of new anchors. Conduct special use activities under a Special Use Permit (SUP). Monitor visitation by requiring participants to register on site at trailheads. Manage areas to fit high, medium, and low density use zones. In the low density zone groups would not exceed 15 without a SUP. In the medium density zone groups of up to 30 are allowed. In the high density zone, groups of more than 30 are allowed. Improvements would be focused in the higher density zones. | Review and revise administration of hunts. Consider turkey and feral hog hunts. Manage fishing as in Alternative B, with the exception of evaluating the need for additional fishing piers based on fishing pressure. Allow bicycling as in Alternative B, plus re-open the Burma Road to bicycling. Manage hiking as in Alternative B, plus develop additional hiking opportunities in the high density use zone. Manage rocksports as in Alternative A, except that technical (gear assisted) rock climbing would be eliminated.
Issue 5: Facilities | Maintain Visitor Center, EE Center, headquarters building and quarters, roads, trails, campgrounds, picnic areas, fishing piers, boat ramps, dams, fences, corrals, etc. | Same as Alternative A, plus: Remodel Visitor Center and EE buildings. Install two wildlife observation blinds at the Visitor Center and the EE Center. Increase trash collection infrastructure, place additional kiosks, and improve wayfinding signage. Replace headquarters building, enlarge corrals, and move fence to true Refuge boundary. | Manage administrative facilities the same as Alternative B, plus install emergency phones along roadways. Manage public use facilities the same as Alternative A, plus remodel headquarters building and enlarge corrals.
Issue 6: Administrative Areas | Manage Holy City according to a 5-year SUP to allow for management and administration of events Manage Treasure Lake Job Corps according to a MOA and easement with the U.S. Department of Labor and U.S. Department of Agriculture Forest Service. Administer site jointly as an educational and vocational training site. | Same as Alternative A, plus: Monitor use of Holy City and effects to Refuge resources. Adapt management of activities if resources are being adversely affected. Consider partnership opportunities with Job Corps participants to include increased EE and Refuge-specific projects. | Remove Holy City facilities and structures. Relocate the Job Corps center off-Refuge.
Issue 7: Cultural Resources | Protect known archaeological sites. Protect and maintain designated sites or those sites eligible for designation to preserve historic character. | Same as Alternative A, plus: Update the 1964-1965 archaeological survey by completing systematic surveys Refuge-wide. Increase monitoring of known sites. | Same as Alternative B, plus: Identify sites in the Public Use Area at a greater risk of disturbance. Nominate additional historic sites for designation.

Public Availability of Documents

In addition to any methods in ADDRESSES, you can view or obtain documents at the following locations:

• Wichita Mountains Wildlife Refuge Headquarters Office, 32 Refuge Headquarters, Indiahoma, OK 73552 between the hours of 8 a.m. and 4:30 p.m., Monday through Friday.

• Our Web site: http://www.fws.gov/southwest/refuges/Plan/planindex.html.

• At the following public libraries:

Library | Address | Phone number
Lawton Public Library | 110 SW 4th Street, Lawton, OK 73501 | 580-581-3450
Cameron University Library | 2800 West Gore Blvd., Lawton, OK 73505 | 580-581-2957
Southern Prairie Library System | 421 N. Hudson Street, Altus, OK 73521 | 580-477-2890

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: August 3, 2012.
Joy E. Nicholopoulos,
Regional Director, Southwest Region.

[FR Doc. 2012-19497 Filed 8-8-12; 8:45 am]

BILLING CODE 4310-55-P